DEPARTMENT OF COMMERCE

National Oceanic and Atmospheric Administration

50 CFR Part 648

[Docket No. 0910051338-0151-02]

RIN 0648-XZ07

Fisheries of the Northeastern United States; Northeast Multispecies Fishery; Trip Limit Reductions and Gear Modifications for the Common Pool Fishery

AGENCY: National Marine Fisheries Service (NMFS), National Oceanic and Atmospheric Administration (NOAA), Commerce.

ACTION: Temporary rule; inseason adjustment of landing limits and gear requirements.

SUMMARY: This action decreases the landing limits for Gulf of Maine (GOM) cod to 100 lb (45.4 kg) per days-at-sea (DAS) up to 1000 lb (453.6 kg) per trip, Georges Bank (GB) yellowtail flounder to 100 lb (45.4 kg) per trip, and white hake to 100 lb (45.4 kg) per DAS up to 500 lb (226.8 kg) per trip; expands the trawl gear restriction in the U.S./Canada Management Area to include the entire Western U.S./Canada Area; and authorizes the use of the rope separator trawl in the Western U.S./Canada Area for NE multispecies vessels fishing in the common pool for the remainder of the 2010 fishing year (FY) (through April 30, 2011). This action is authorized under the authority of the Magnuson-Stevens Fishery Conservation and Management Act (Magnuson-Stevens Act), and by the regulations implementing Amendment 16 and Framework Adjustment 44 (FW 44) to the NE Multispecies Fishery Management Plan (FMP). It is intended to optimize the harvest of NE regulated multispecies by decreasing the likelihood of harvest exceeding the subcomponent of the annual catch limit (ACL) allocated to the common pool (common pool sub-ACL) for each of these three stocks during FY 2010 (May 1, 2010, through April 30, 2011).

DATES: September 27, 2010, through April 30, 2011.

FOR FURTHER INFORMATION CONTACT: Douglas Potts, Fishery Policy Analyst, (978) 281-9341, fax (978) 281-9135.

SUPPLEMENTARY INFORMATION: Regulations governing possession and landing limits for vessels fishing under common pool regulations are found at § 648.86. The regulations authorize vessels issued a valid limited access NE multispecies permit and fishing under a NE multispecies day-at-sea (DAS), or fishing under a NE multispecies Small Vessel or Handgear A or B category permit, to fish for and retain NE multispecies under specified conditions. The vessels fishing in the common pool are allocated a sub-ACL equivalent to that portion of the commercial groundfish ACL that is not allocated to the 17 approved NE multispecies sectors for FY 2010. The final rule implementing FW 44 (75 FR 18356, April 9, 2010) established ACLs for FY 2010, which were modified by a subsequent rule (75 FR 29459, May 26, 2010). For FY 2010, the common pool sub-ACLs for these stocks are: 240 mt (529,109 lb) for GOM cod, 20 mt (43,954 lb) for GB yellowtail flounder, and 51 mt (112,436 lb) for white hake.

The regulations at § 648.86(o) authorize the Administrator, Northeast (NE) Region, NMFS (Regional Administrator) to increase or decrease the trip limits for vessels in the common pool to optimize the harvest of NE regulated species by preventing over-harvesting or under-harvesting the common pool sub-ACL. The current relevant FY 2010 trip limits are: 200 lb (90.7 kg)/DAS up to 1,000 lb (453.6 kg)/trip for GOM cod; 1,000 lb (453.6 kg)/trip for GB yellowtail flounder; and 2,000 lb (907.2 kg)/DAS up to 10,000 lb (4,535.9 kg)/trip for white hake. Exceeding the common pool sub-ACL prior to April 30, 2011, would trigger accountability measures (AMs) in FY 2011--specifically, differential DAS counting, to prevent future overages.

An inseason action published in the Federal Register on May 27, 2010 (75 FR 29678), reduced the common pool trip limits for five stocks: GOM haddock, GB haddock, GOM winter flounder, GB winter flounder, and GB yellowtail flounder. A subsequent action (75 FR 44924, July 30, 2010) reduced the trip limit for GOM cod and imposed a gear restriction in the U.S./Canada Management Area to reduce catch of GB yellowtail flounder. A third action (75 FR 48613, August 11, 2010) imposed a trip limit for witch flounder and removed the trip limit for pollock. A September 2, 2010, inseason action (75 FR 53872) imposed 2:1 differential DAS counting in the Inshore GOM, Offshore GOM, Inshore GB, and Offshore GB Differential DAS Areas to reduce effort on GOM cod, white hake, and witch flounder.

Initial vessel monitoring system (VMS) and dealer reports indicate that approximately 91.4 percent of the GOM cod, 90.2 percent of the GB yellowtail flounder, and 65.5 percent of the white hake common pool sub-ACLs had been harvested as of September 11, 2010. Although there are relatively few common pool vessels landing groundfish, such vessels have been leasing in additional DAS from other vessels, and a substantial portion of the FY remains. Even minimal future fishing activity will likely increase catch of the stocks of concern. Should the common pool sub-ACLs be exceeded prior to April 30, 2011, AMs would be automatically triggered for the common pool fishery in FY 2011.

Based on this information, the Regional Administrator has determined that despite previous inseason actions, additional measures are needed to help ensure that the common pool sub-ACLs are not exceeded before the end of the FY. To that end the Regional Administrator is implementing the trip limit changes in the following table, effective September 27, 2010 through April 30, 2011, as well as restrictions on the use of trawl gear in the entire Western U.S./Canada Area as more fully described below.

Stock | NewTrip Limit
GOM Cod | 100 lb (45.4 kg) per DAS, up to 1000 lb (453.6 kg) per trip
GB Yellowtail Flounder | 100 lb (45.4 kg) per trip
White Hake | 100 lb (45.4 kg) per DAS, up to 500 lb (226.8 kg) per trip

On July 30, 2010, NMFS implemented a prohibition on the use of trawl gear, except for the haddock separator trawl and the Ruhle trawl, as specified at §§ 648.85(a)(3)(iii) and (b)(6)(iv)(J)(3), respectively, by any limited access NE multispecies common pool vessel that harvests, possesses, or lands fish from, or deploys its net during any part of a trip in, the Western U.S./Canada Area south of 41° 40′ N. lat. when fishing under a NE multispecies DAS, to reduce catches and discards of GB yellowtail flounder. This allowed a vessel to continue to fish for other stocks north of 41° 40′ N. lat., where NMFS at-sea observer data indicate catch rates of yellowtail flounder are lower. However, due to the small amount of GB yellowtail flounder remaining for the common pool fishery (approximately 2 mt (4,409 lb)) any catch of GB yellowtail flounder in this area could exceed the remaining sub-ACL. Given this concern, expanding the gear restriction to the entire Western U.S./Canada Area is warranted, and is implemented through this action.

The current Western U.S./Canada Area trawl gear restriction inadvertently omitted rope separator trawl gear as an acceptable type of gear that could be allowed to slow the catch and discard rates of GB yellowtail flounder. This omission, which was inconsistent with gear allowed in the adjacent Western GB Multispecies Restricted Gear Area (RGA) as specified at § 648.81(n) is corrected through this action to ensure flexibility in gears allowed, and to be consistent with gear restrictions in the RGA. This action now allows common pool vessels to use the rope separator trawl, as defined at § 648.81(n)(3)(i)(A), when fishing in the Western U.S./Canada Area. A vessel that fishes in the Eastern U.S./Canada Area is still restricted from using a flounder trawl and may only use either a haddock separator trawl or a Ruhle trawl, as the rope separator trawl is not an authorized gear type in the Eastern U.S./Canada Area.

The regulations at § 648.85(a)(3)(iv)(D) specify that, if the Regional Administrator requires use of a particular gear type in order to reduce catches of stocks of concern, the following gear performance incentives will apply: Possession of flounders (all species combined), monkfish, and skates is limited to 500 lb (226.8 kg) (whole weight) each (i.e., no more than 500 lb (226.8 kg) of all flounders, no more than 500 lb (226.8 kg) of monkfish, and no more than 500 lb (226.8 kg) of skates), and possession of lobsters is prohibited. Therefore, common pool vessels fishing any part of a trip in any part of the U.S./Canada Management Area (Eastern or Western Areas) are restricted to these catch limits for the duration of that trip, and, of the 500 lb (226.8 kg) of flounders, no more than 100 lb ( 45.4 kg) may be GB yellowtail flounder.

Catch will be closely monitored through dealer-reported landings, VMS catch reports, and other available information. Further inseason adjustments to increase or decrease the trip limits, or to adjust differential DAS measures, may be considered, based on updated catch data and projections. Conversely, if the common pool sub-ACL is projected to be under-harvested by the end of FY 2010, in-season adjustments to increase the trip limit for the remainder of FY2010 will be considered.

Classification

This action is authorized by 50 CFR part 648 and is exempt from review under Executive Order 12866.

Pursuant to 5 U.S.C. 553(b)(3)(B) and (d)(3), there is good cause to waive prior notice and opportunity for public comment, as well as the delayed effectiveness for this action, because notice, comment, and a delayed effectiveness would be impracticable and contrary to the public interest. The regulations under §§ 648.86(o) and 648.85(a)(3)(iv)(D) grant the RA the authority to adjust NE multispecies trip limits and implement gear restrictions in the U.S./Canada Management Area to prevent over-harvesting or under-harvesting the common pool sub-ACLs. This action will implement more restrictive trip limits for GOM cod, GB yellowtail flounder, and white hake in order to ensure that the common pool sub-ACLs are not overharvested, and that the biological and economic objectives of the FMP are met. It is important to take this action immediately because, based on current data and projections, continuation of the status quo trip limits will result in reaching the respective common pool sub-ACLs prior to the end of the FY. Inseason adjustments in FY 2010 have already reduced the landing limits for GOM cod (July 30, 2010) and GB yellowtail flounder (May 27, 2010), implemented a gear restriction in most of the Western U.S./Canada Area (July 30, 2010), and implemented differential DAS counting in the GOM and GB to minimize the chance of exceeding the sub-ACL for GOM cod and white hake, as well as other stocks (September 2, 2010). Attainment of any of the common pool sub-ACLs prior to the end of the FY on April 30, 2011, would result in AMs being put in place for the common pool in FY 2011. These restrictions could result in the loss of yield of other valuable species caught by vessels in the common pool. The information that is the basis for this action includes recent catch data that only recently became available. The time necessary to provide for prior notice and comment, and delayed effectiveness for this action, would prevent NMFS from implementing a reduced trip limit and additional gear restrictions in a timely manner. A resulting delay in the curtailment of the catch rate of these three stocks could result in less revenue for the fishing industry and be counter to the objective of achieving optimum yield from the fishery.

Authority: 16 U.S.C. 1801 et seq.

Dated: September 21, 2010.
Carrie Selberg,
Acting Director, Office of Sustainable Fisheries, National Marine Fisheries Service.

[FR Doc. 2010-24188 Filed 9-22-10; 4:15 pm]

BILLING CODE 3510-22-S